DEPARTMENT OF AGRICULTURE

[Internal File No. 3000-2]

Office of the Chief Information Officer; Notice of Availability of USDA Information Quality Guidelines

AGENCY: Department of Agriculture.

ACTION: Notice of availability and request for comment.

SUMMARY: In accordance with Section 515 of the Treasury and General Government Appropriations Act for Fiscal Year 2001 (Pub. L. 106-554, H.R. 5618) and Office of Management and Budget (OMB) guidelines issued at 66 FR 49718, 67 FR 8452, and 67 FR 9797, the U.S. Department of Agriculture has developed draft information quality guidelines to ensure and maximize the quality, objectivity, utility and integrity of information it disseminates and administrative mechanisms for affected persons to seek and obtain appropriate correction of that information.

DATES: Comments on this notice must be submitted by July 15, 2002.

ADDRESSES: Submit comments to Dr. Bette Fugitt, eGovernment, Office of the Chief Information Officer, U.S. Department of Agriculture, 1400 Independence Avenue, SW., STOP 7602, Washington, DC 20250-7602. Comments may also be sent to Dr. Fugitt by fax at (202) 205-2831 or by e-mail at Bette.Fugitt@usda.gov.

FOR FURTHER INFORMATION CONTACT: Dr. Bette Fugitt, eGovernment Office of the Chief Information Officer, U.S. Department of Agriculture, 1400 Independence Avenue, SW., STOP 7602, Washington, DC 20250-7602. Telephone (202) 720-8020.

SUPPLEMENTARY INFORMATION: OMB has issued government-wide guidelines for ensuring and maximizing the quality, objectivity, utility, and integrity of information disseminated by Federal agencies. Congress directed OMB to issue guidelines in section 515 of the Treasury and General Government Appropriations Act for Fiscal Year 2001 (Public Law 106-554). OMB published its guidelines in the Federal Register on September 28, 2001 at 66 FR 49718-49725 and updated the guidelines on February 22, 2002 at 67 FR 8452-8460 and on March 4, 2002 at 67 FR 9797.

OMB's guidelines require Federal agencies subject to the Paperwork Reduction Act (44 U.S.C. Chapter 35) to: (1) Issue information quality guidelines for the information disseminated by the agency; (2) establish administrative mechanisms allowing affected persons to seek and obtain correction of information dissemination by the agency on or after October 1, 2002 that does not comply with OMB or agency guidelines; and (3) annually report to OMB the number and nature of complaints received by the agency regarding agency compliance with OMB and agency guidelines and how such complaints were resolved.

As the initial step in its development of information quality guidelines, each Federal agency must prepare a draft report providing its guidelines and detailing the administrative mechanisms developed by the agency to allow affected persons to seek and obtain correction of information disseminated by the agency, and post the draft report on the agency's website to provide an opportunity for public comment. As provided for in OMB's guidelines implementing Section 515, USDA is publishing this notice of availability of its draft quality guidelines in the Federal Register. The Department has posted the draft guidelines on its website at http://www.egov.usda.gov/ to provide an opportunity for public comment. Members of the public who do not have Internet access may request a paper copy of the draft quality guidelines by contacting the agency as directed above.

We invite comments on all aspects of the guidelines with emphasis on the following general questions:

1. Are USDA's draft guidelines adequate for ensuring the objectivity, utility, and integrity of the information it disseminates as set out in OMB's notices of September 28, 2001 and February 22, 2002?

2. Are USDA's procedures for allowing affected persons to seek and obtain correction of information appropriate and consistent with OMB requirements?

Dated: June 13, 2002.
Ira L. Hobbs,
Acting Chief Information Officer, Department of Agriculture.

[FR Doc. 02-15505 Filed 6-19-02; 8:45 am]

BILLING CODE 3410-01-M